DEPARTMENT OF ENERGY

Federal Energy Regulatory Commission

[Docket No. CP17-440-000]

Equitrans, LP; Notice of Request Under Blanket Authorization

Take notice that on May 10, 2017, Equitrans, LP (Equitrans), 625 Liberty Avenue, Suite 1700, Pittsburgh, Pennsylvania 15222-3111, filed in Docket No. CP17-440-000 a prior notice request pursuant to sections 157.205, 157.213 and 157.216 of the Commission's regulations under the Natural Gas Act (NGA), and Equitrans' blanket certificate issued in Docket No. CP96-532-000, to (i) modify and abandon in part an injection and withdrawal well in Equitrans' Rhodes Storage Field Complex (Rhodes Complex) and Skin Creek Storage Field located in Lewis County, West Virginia, and (ii) abandon in-place approximately 2,553 feet of the associated natural gas storage pipeline.

Equitrans states that the 2⅞-inch tubing currently in place in the Rhodes Complex/Skin Creek Storage Field Well 8215 prevents the use of casing evaluation tools necessary to perform corrosion monitoring required to comply with new regulations adopted by the Pipeline and Hazardous Materials Safety Administration (PHMSA). In order to facilitate compliance with PHMSA's new regulations, Equitrans is proposing to perform certain modifications to Storage Well 8215 and as a result, access to the Rhodes Complex via this well will be abandoned, but access to the Skin Creek Storage Field will not be affected. The proposed modification will result in Storage Well 8215 serving as a single completion well, which will allow the use of-high resolution casing logging tools and will have no impact on the well's overall deliverability. Equitrans affirms that there will be no impact on the certificated parameters of either the Rhodes Complex or the Skin Creek Storage Field, and that there will be no elimination or decrease in service to customers as a result of the proposed abandonment of facilities. Equitrans estimates the cost of the project to be $166,000, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Paul W. Diehl, Counsel—Midstream, Equitrans, LP, 625 Liberty Avenue, Suite 1700, Pittsburgh, PA 15222, by telephone at (412) 395-5540, by facsimile at (412) 553-7781, or by email at pdiehl@eqt.com.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules, 18 CFR 157.9, within 90 days of this Notice the Commission staff will either: complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters, will not receive copies of all documents filed by other parties or issued by the Commission (except for the mailing of environmental documents issued by the Commission) and will not have the right to seek court review of the Commission's final order.

The Commission strongly encourages electronic filings of comments, protests and interventions in lieu of paper using the eFiling link at http://www.ferc.gov. Persons unable to file electronically should submit an original and seven copies of the protest or intervention to the Federal Energy Regulatory Commission, 888 First Street NE., Washington, DC 20426.

Dated: May 16, 2017.
Kimberly D. Bose,
Secretary.

[FR Doc. 2017-10380 Filed 5-19-17; 8:45 am]

BILLING CODE 6717-01-P